DEPARTMENT OF TRANSPORTATION

Federal Aviation Administration

14 CFR Part 91

[Docket No. FAA-2007-29305; Amdt. No. 91-336A]

RIN 2120-AI92

Automatic Dependent Surveillance-Broadcast (ADS-B) Out Performance Requirements To Support Air Traffic Control (ATC) Service; Technical Amendment; Correction

AGENCY: Federal Aviation Administration, DOT.

ACTION: Final rule; correction of a technical amendment.

SUMMARY: The FAA is correcting a final rule technical amendment published on February 9, 2015 (80 FR 6899). In that final rule, which became effective on the date of publication, the FAA corrected errors in regulatory provisions addressing Automatic Dependent Surveillance-Broadcast Out equipment and use. The FAA inadvertently listed an incorrect Amendment Number for that final rule. This document corrects that error.

DATES: Effective: March 4, 2015.

FOR FURTHER INFORMATION CONTACT: For technical questions concerning this action, contact Robert F. Nichols, Jr., Surveillance Services Group Manager, AJM-23, Air Traffic Organization, Federal Aviation Administration, 600 Independence Avenue SW., Washington, DC 20591; telephone (202) 267-0629; email Robert.nichols@faa.gov.

For legal questions concerning this action, contact Lorelei Peter, Office of the Chief Counsel, AGC-200, Federal Aviation Administration, 800 Independence Avenue SW., Washington, DC 20591; telephone (202) 267-3073; email Lorelei.Peter@faa.gov.

SUPPLEMENTARY INFORMATION:

Background

On February 9, 2015, the FAA published a final rule technical amendment entitled, “Automatic Dependent Surveillance-Broadcast (ADS-B) Out Performance Requirements To Support Air Traffic Control (ATC) Service; Technical Amendment.” In that final rule, which became effective February 9, 2015, the FAA amended 14 CFR part 91. The FAA inadvertently listed the incorrect Amendment Number for part 91 in the header information of the final rule as 91-334. The correct amendment number is 91-336.

Correction

In the final rule, FR Doc. 2015-02579, published on February 9, 2015, at 80 FR 6899 make the following correction:

1. On page 6899 in the heading of the final rule, revise “Amdt. No. 91-334” to read “91-336”.

Issued in Washington, DC, under the authority provided by 49 U.S.C. 106(f), on February 26, 2015.
Brenda D. Courtney,
Acting Director, Office of Rulemaking.

[FR Doc. 2015-04476 Filed 3-3-15; 8:45 am]

BILLING CODE 4910-13-P